NUCLEAR REGULATORY COMMISSION

[Docket No. 50-255; NRC-2010-0198]

Entergy Nuclear Operations, Inc.; Notice of Withdrawal of Application for Amendment to Facility Operating License

The U.S. Nuclear Regulatory Commission (the Commission) has granted the request of Entergy Nuclear Operations, Inc. (ENO) (the licensee) to withdraw its August 28, 2008, application for proposed amendment to Facility Operating License No. DPR-20 for the Palisades Nuclear Plant, located in Van Buren County, Michigan. The proposed amendment would have revised the facility Technical Specifications as they apply to Administrative Controls Section 5.3 Plant Staff Qualifications, and Section 5.6.5 Core Operating Limits Report (COLR). ENO supplemented the License Amendment Request by letter dated May 14, 2009.

The Commission had previously issued a Notice of Consideration of Issuance of Amendment published in the Federal Register on November 4, 2008 (73 FR 65691). However, by letter dated May 6, 2010, the licensee withdrew the proposed change.

For further details with respect to this action, see the application for amendment dated August 28, 2008, supplemented by letter dated May 14, 2009, and the licensee's letter dated May 6, 2010, which withdrew the application for license amendment. Documents may be examined, and/or copied for a fee, at the NRC's Public Document Room (PDR), located at One White Flint North, Public File Area O1 F21, 11555 Rockville Pike (first floor), Rockville, Maryland. Publicly available records will be accessible electronically from the Agencywide Documents Access and Management System (ADAMS) Public Electronic Reading Room on the Internet at the NRC Web site, http://www.nrc.gov/reading-rm/adams.html. Persons who do not have access to ADAMS or who encounter problems in accessing the documents located in ADAMS should contact the NRC PDR Reference staff by telephone at 1-800-397-4209, or 301-415-4737 or by e-mail to pdr.resource@nrc.gov.

Dated at Rockville, Maryland, this 2nd day of June, 2010.
For the Nuclear Regulatory Commission.
Mahesh Chawla,
Project Manager, Plant Licensing Branch III-1, Division of Operating Reactor Licensing, Office of Nuclear Reactor Regulation.

[FR Doc. 2010-14050 Filed 6-10-10; 8:45 am]

BILLING CODE 7590-01-P